DEPARTMENT OF TRANSPORTATION

Pipeline and Hazardous Materials Safety Administration

[Docket No. PHMSA-2007-27954]

Pipeline Safety: Workshop on “Prevention Through People” Initiative

AGENCY: Pipeline and Hazardous Materials Safety Administration (PHMSA), U.S. Department of Transportation (DOT).

ACTION: Notice of public workshop.

SUMMARY: This notice announces the first public workshop on PHMSA's “Prevention Through People” (PTP) initiative. This workshop will gather information about noteworthy pipeline safety and integrity practices in control room operations, including measures for managing human risk factors such as fatigue. The information gathered will be used to develop an approach to control room management that enhances safety.

DATES: The workshop will be held on Wednesday, May 23, 2007 from 8:30 a.m. to 5 p.m. EST.

ADDRESSES: The workshop will take place at the National Transportation Safety Board (NTSB) Conference Center, 429 L'Enfant Plaza, SW., Washington, DC 20594.

FOR FURTHER INFORMATION CONTACT: For additional information regarding this workshop contact Byron Coy at (609) 989-2180, or by e-mail at byron.coy@dot.gov.

SUPPLEMENTARY INFORMATION:

I. Workshop Details

Members of the public may attend the workshop. PHMSA will post any additional information or changes on its Web page (http://www.phmsa.dot.gov) approximately 15 days before the workshop date.

Comments should reference Docket No. PHMSA-2007-27954 and may be submitted in the following ways:

• DOT Web site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web site: http://www.regulations.gov. This site allows the public to enter comments on any Federal Register notice issued by any agency.

Instructions: You should identify the docket number, PHMSA-2007-27954, at the beginning of your comments. If you submit your comments by mail, you should submit two copies. If you wish to receive confirmation that PHMSA received your comments, you should include a self-addressed stamped postcard. Internet users may submit comments at http://www.regulations.gov, and may access all comments received by DOT at http://dms.dot.gov by performing a simple search for the docket number.

Note: All comments will be posted without changes or edits to http://dms.dot.gov including any personal information provided.

Privacy Act Statement: Anyone may search the electronic form of all comments received for any of our dockets. You may review DOT's complete Privacy Act Statement in the Federal Register published on April 11, 2000 (65 FR 19477) or you may visit http://dms.dot.gov.

Information on Services for Individuals with Disabilities: For information on facilities or services for individuals with disabilities, or to request special assistance at the workshop, please contact Byron Coy at (609) 989-2180 by May 18, 2007.

II. Background

Sections 12 and 19 of the Pipeline Integrity, Protection, Enforcement and Safety Act of 2006 (PIPES Act), Public Law 109-468, direct PHMSA to address various risks to pipeline integrity in which people play a large role, including fatigue and other safety concerns in control room management. PHMSA plans to use its PTP initiative to address these PIPES Act requirements.

Historically, PHMSA's pipeline integrity management (IM) efforts were driven by making best use of risk data to prioritize risk control efforts. Program logic dictated the focus on the physical and structural soundness of the pipe and other infrastructure components to assure that hazardous liquids and natural gas are safely transported. IM programs over the past several years are successfully driving down the leading risks of third party damage and corrosion. These programs help operators understand the threats affecting the integrity of their systems and implement appropriate actions to mitigate risks associated with these threats. Third party damage and corrosion are only part of the safety picture. The next logical area of program development is to examine the role of people, including control center operators. Human error, including those caused by mistake or fatigue, can cause or exacerbate events involving releases leading to safety impacts.

PHMSA is considering a plan to recognize the importance of human interactions and opportunities for preventing risk, both errors and mitigating actions, to pipeline system integrity by instituting a PTP program. This effort would draw together all existing program components both regulatory and non-regulatory. The PTP program would be designed as a holistic part of the IM program efforts.

Several existing regulations focus on the role of people in effectively managing safety. These include regulations on damage prevention programs (§§ 192.614 and 195.442), public awareness (§§ 192.616 and 195.440), and qualification of pipeline personnel (§ 192.801 and subpart G of part 195). In the future, PHMSA plans to address additional risks associated with human factors as well as the opportunities for people to mitigate risks. Explicitly incorporating a PTP element in IM plans would emphasize the role of people both in contributing to and in reducing risk. PHMSA believes that this may be the best means of fostering a holistic approach to managing the safety impact of people on the integrity of pipelines. In addition to regulations, PHMSA plans to recognize and communicate noteworthy best practices in PTP.

PHMSA recently reported to Congress on its work examining control room management issues. This report, titled “Qualification of Pipeline Personnel,” is the culmination of a four-year effort examining control room issues in PTP. Controllers are individuals who operate computer-based systems for monitoring and controlling the operations of pipelines. Although the project began with examination of qualification issues, during the course of the project, we identified other control room issues impacting the safety performance of these individuals. PHMSA concluded that validating the adequacy of controller-related processes, procedures, training and the controllers' credentials would improve management of control rooms, enhancing safety for the public, environment and pipeline employees. PHMSA also identified areas in which additional measures could enhance control room safety and minimize risk associated with fatigue and interaction with computer equipment. These areas include annual validation of controller qualifications by senior level executives of pipeline companies, clearly defined responsibilities for controllers in responding to abnormal operating conditions, the use of formalized procedures for information exchange during shift turnover, and clearly established shift lengths combined with education on strategies to reduce the contribution of non-work activities to fatigue.

This workshop will build on work done in the June 2006 workshop on controller issues. PHMSA will include panels drawn from the entire enterprise to discuss noteworthy practices in the various areas. We anticipate panels on fatigue and other control room management issues. These issues include both those directly relating to the individuals, such as qualifications and fatigue, as well as the systems and processes controllers use that can affect pipeline safety and integrity.

In particular, PHMSA seeks information about best practices and standards that would accomplish the following:

1. Clearly define the roles and responsibilities of controllers to ensure their prompt and appropriate response to abnormal operating conditions.

2. Formalize procedures for recording critical information and for exchanging information during shift turn-over.

3. Establish shift lengths and schedule rotations to protect against the onset of fatigue, and educate controllers and their supervisors in fatigue mitigation strategies and how non-work activities contribute to fatigue.

4. Periodically review the supervisory control and data acquisition systems (SCADA) displays to insure controllers are getting clear and reliable information from field stations and devices.

5. Periodically audit alarm configurations and handling procedures to provide confidence in alarm signals and to ensure controller effectiveness.

6. Involve controllers when planning and implementing changes in operations, and maintain strong communications between controllers and field personnel.

7. Determine how to establish, maintain, and review controller qualifications, abilities and performance metrics, with particular attention to response to abnormal operating conditions.

8. Analyze operating experience including accidents and incidents for possible involvement of the SCADA system, controller performance, and fatigue.

9. Validate the adequacy of controller-related procedures, training and the qualifications of controllers, possibly annually through involvement by senior level executives of pipeline companies.

PHMSA also expressly seeks comments on the potential for including PTP within IM.

III. Preliminary Workshop Agenda

The preliminary agenda for this workshop includes briefings on the following topics:

• Prevention through People' Overview.

• Purpose and Goals of Workshop.

• Fatigue and SCADA-NTSB.

• Fatigue-Panel Discussion.

• Computer Interface and Change Management—Panel Discussion.

• Control Room Practices—Panel Discussion.

• Risk Approach to Control Room Management—PHMSA.

Authority: 49 U.S.C. 60102, 60117.

Issued in Washington, DC on April 17, 2007.
Joy Kadnar,
Director, Office of Engineering and Emergency Support.

[FR Doc. 07-1987 Filed 4-18-07; 10:40 am]

BILLING CODE 4910-60-P